DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons (SDN) List based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://ofac.treasury.gov).

Notice of OFAC Action(s)

On September 27, 2023, OFAC determined that the property and interests in property subject to U.S. jurisdiction of the following persons are blocked under the relevant sanctions authority listed below.

Entities

1. ANKA PORT IC VE DIS TICARET INSAAT LOJISTIK SANAYI LIMITED SIRKETI, Mahmutbey Tasocagi Yolu No: 19/34, Istanbul, Turkey; website www.ankaport-tr.com; Additional Sanctions Information—Subject to Secondary Sanctions; Target Type Private Company [NPWMD] [IFSR] (Linked To: PISHGAM ELECTRONIC SAFEH COMPANY).

Designated pursuant to section 1(a)(iii) of E.O. 13382 for having provided, or attempted to provide, financial, material, technological or other support for, or goods or services in support of, PISHGAM ELECTRONIC SAFEH COMPANY, a person whose property and interests in property are blocked pursuant to E.O. 13382.

2. DAL ENERJI MADENCILIK TURIZM SANAYI VE TICARET ANONIM SIRKETI (a.k.a. “DAL ENERJI A.S.”), Saadet Ishani Blok, No: 28/102 Hobyar Mahallesi, Istanbul, Turkey; website www.daltrd.com; Additional Sanctions Information—Subject to Secondary Sanctions; Organization Established Date 22 Jul 2022; Tax ID No. 2670668338 (Turkey); Chamber of Commerce Number 1387299 (Turkey); Business Registration Number 394431 (Turkey); Central Registration System Number 0267-0668-3380-0010 (Turkey) [NPWMD] [IFSR] (Linked To: PISHGAM ELECTRONIC SAFEH COMPANY).

Designated pursuant to section 1(a)(iii) of E.O. 13382 for having provided, or attempted to provide, financial, material, technological or other support for, or goods or services in support of, PISHGAM ELECTRONIC SAFEH COMPANY, a person whose property and interests in property are blocked pursuant to E.O. 13382.

3. FARHAD GHAEDI WHOLESALERS LLC, 902 Al Maktoum Building, Al Buteen, Al Maktoum Road, Deira, Dubai, United Arab Emirates; Additional Sanctions Information—Subject to Secondary Sanctions; Organization Established Date 21 Jun 2020; Chamber of Commerce Number 1498735 (United Arab Emirates); Business Registration Number 892067 (United Arab Emirates) [NPWMD] [IFSR] (Linked To: PISHGAM ELECTRONIC SAFEH COMPANY).

Designated pursuant to section 1(a)(iii) of E.O. 13382 for having provided, or attempted to provide, financial, material, technological or other support for, or goods or services in support of, PISHGAM ELECTRONIC SAFEH COMPANY, a person whose property and interests in property are blocked pursuant to E.O. 13382.

4. HONGKONG HIMARK ELECTRON MODEL LIMITED, Rm D 10/F Tower A Billion CTR 1 Wang Kwong Rd, Kowloon Bay, Kowloon, Hong Kong, China; Additional Sanctions Information—Subject to Secondary Sanctions; Organization Established Date 13 Sep 2017; Commercial Registry Number 2578406 (Hong Kong) [NPWMD] [IFSR] (Linked To: PISHGAM ELECTRONIC SAFEH COMPANY).

Designated pursuant to section 1(a)(iii) of E.O. 13382 for having provided, or attempted to provide, financial, material, technological or other support for, or goods or services in support of, PISHGAM ELECTRONIC SAFEH COMPANY, a person whose property and interests in property are blocked pursuant to E.O. 13382.

5. PISHGAM ELECTRONIC SAFEH COMPANY (a.k.a. PISHGAM ELECTRONIC SOFEH COMPANY), Number 58, Khoram Alley, North Sheikh Sadogh Street, Isfahan, Isfahan Province 8163839973, Iran; Additional Sanctions Information—Subject to Secondary Sanctions; Organization Established Date 31 May 2010; National ID No. 10260583624 (Iran); Registration Number 40674 (Iran) [NPWMD] [IFSR] (Linked To: ISLAMIC REVOLUTIONARY GUARD CORPS AEROSPACE FORCE SELF SUFFICIENCY JIHAD ORGANIZATION).

Designated pursuant to section 1(a)(iii) of E.O. 13382 for having provided, or attempted to provide, financial, material, technological or other support for, or goods or services in support of, ISLAMIC REVOLUTIONARY GUARD CORPS AEROSPACE FORCE SELF SUFFICIENCY JIHAD ORGANIZATION, a person whose property and interests in property are blocked pursuant to E.O. 13382.

Dated: September 27, 2023.
Bradley T. Smith,
Director, Office of Foreign Assets Control, U.S. Department of the Treasury.

[FR Doc. 2023-21756 Filed 10-2-23; 8:45 am]

BILLING CODE 4810-AL-P